SMALL BUSINESS ADMINISTRATION

[Declaration of Disaster #3295; Amendment #1]

State of California

In accordance with information received from the Federal Emergency Management Agency, dated November 9, 2000, the above-numbered Declaration is hereby amended to extend the deadline for filing applications for physical damage caused by this disaster from November 13, 2000 to November 30, 2000.

All other information remains the same, i.e., the deadline for filing applications for economic injury is June 14, 2001.

(Catalog of Federal Domestic Assistance Program Nos. 59002 and 59008.)
Dated: November 20, 2000.
Herbert L. Mitchell,
Acting Associate Administrator for Disaster Assistance.

[FR Doc. 00-30263 Filed 11-27-00; 8:45 am]

BILLING CODE 8025-01-P